DEPARTMENT OF ENERGY

Federal Energy Regulatory Commission

Sunshine Act Meeting

April 18, 2000.

The following notice of meeting is published pursuant to section 3(a) of the government in the sunshine act (Pub. L. No. 94-409), 5 U.S.C 552B:

AGENCY HOLDING MEETING: Federal Energy Regulatory Commission.

DATE AND TIME: April 25, 2000, 10 a.m.

PLACE: Room 2C, 888 First Street, N.E., Washington, D.C. 20426.

STATUS: Open.

MATTERS TO BE CONSIDERED: Agenda, * Note—Items listed on the agenda may be deleted without further notice.

CONTACT PERSON FOR MORE INFORMATION: David P. Boergers, Secretary, telephone (202) 208-0400; for a recording listing items stricken from or added to the meeting, call (202) 208-1627.

This is a list of matters to be considered by the commission. It does not include a listing of all papers relevant to the items on the agenda; however, all public documents may be examined in the reference and information center.

Consent Agenda—Hydro

740TH—Meeting April 25, 2000, Regular Meeting (10 a.m.)

CAH-1.

Omitted

CAH-2.

Docket#, P-10536, 007, Public Utility District No. 1 of Okanogan County, Washington

CAH-3.

Docket#, P-2496, 043, Eugene Water and Electric Board

Other#S, P-2496, 024, Eugene Water and Electric board; P-2496, 039, Eugene Water and Electric Board; P-2496, 042, Eugene Water and Electric Board

CAH-4.

Docket#, P-2609, 013, Curtis/Palmer Hydroelectric Company LP and International Paper Company

CAH-5.

Docket#, P-11243, 016, Cordova Electric Cooperative, Inc.

CAH-6.

Docket#, P-2709, 015, Monongahela Power Company, the Potomac Edison Company and West Penn Power Company

Consent Agenda—Electric

CAE-1.

Docket#, ER00-1770, 000, Conectiv Energy Supply, Inc.

CAE-2.

Docket#, ER00-1737, 000, Virginia Electric & Power Company

CAE-3.

Docket#, ER00-1641, 000, California Power Exchange Corporation

Other#S, ER00-1642, 000, California Power Exchange Corporation

CAE-4.

Docket#, ER00-1723, 000, New England Power Pool

CAE-5.

Docket#, ER00-1789, 000, Wisconsin Electric Power Company

CAE-6.

Omitted

CAE-7.

Docket#, ER00-1806, 000, Amergen Vermont, LLC

CAE-8.

Docket#, ER00-1807, 000, Pacific Gas and Electric Company

Other#S, ER97-320, 000, Pacific Gas and Electric Company

CAE-9.

Docket#, ER00-1820, 000, Commonwealth Edison Company and Commonwealth Edison Company of Indiana

CAE-10.

Docket#, ER00-1830, 000, El Segundo Power, LLC

CAE-11.

Docket#, ER00-1666, 000, North American Electric Reliabililty Council

CAE-12.

Omitted

CAE-13.

Docket#, ER99-3603, 000, Pacific Gas and Electric Company

CAE-14.

Docket#, ER99-2326, 003, Pacific Gas and Electric Company

Other#S, EL99-68, 003, Pacific Gas and Electric Company

CAE-15.

Docket#, ER00-1534, 000, Ocean State Power, II

Other#S, ER00-1535, 000, Ocean State Power

CAE-16.

Docket#, ER00-1743, 000, Entergy Services, Inc.

CAE-17.

Docket#, ER00-1638, 000, Central Maine Power Company

Other#S, ER00-1638, 001, Central Maine Power Company; ER00-26, 000, Central Maine Power Company; ER00-604, 000, Central Maine Power Company; ER00-982, 000, Central Maine Power Company; ER99-238, 000, Central Maine Power Company; ER97-1326, 000, Central Maine Power Company; EL00-44, 000, Central Maine Power Company

CAE-18.

Docket#, ER00-1717, 000, Reliant Energy Shelby County, LP

Other#S, ER00-1742, 000, Madison Windpower, LLC; ER00-1746, 000, DTE Georgetown, LLC; ER00-1779, 000, Union Power Partners, L.P.; ER00-1792, 000, Liberty Generating Company, LLC; ER00-1803, 000, South Eastern Generating Corporation; ER00-1804, 000, Panda Leesburg Power Partners, L.P.; ER00-1805, 000, Panda Midway Power Partners, L.P.; ER00-1814, 000, Avista Turbine Power, Inc.; ER00-1844, 000, Lamar Power Partners, LP; ER00-1851, 000, Pleasant Hill Marketing, LLC; ER00-1858, 000, New Hampshire Electric Cooperative, Inc.; ER00-1858, 001, New Hampshire Electric Cooperative, Inc.

CAE-19.

Omitted

CAE-20.

Docket#, ER99-4560, 001, Idaho Power Company

CAE-21.

Docket#, ER99-3092, 000, Central Maine Power Company

Other#S, ER99-3094, 000, Central Maine Power Company

CAE-22.

Omitted

CAE-23.

Docket#, RM95-9, 010, Open Access Same-Time Information System and Standards of Conduct

CAE-24.

Omitted

CAE-25. Omitted

CAE-26.

Docket#, ER00-536, 001, Southwestern Public Service Corporation

CAE-27.

Docket#, ER00-951, 002, California Power Exchange Corporation

CAE-28.

Docket#, EL00-40, 000, Dighton Power Associates Limited Partnership, FPL Energy, L.L.C., Southern Energy New England, L.L.C. and Southern Energy Kendall, L.L.C. v. ISO New England Inc.

CAE-29.

Docket#, EL00-42, 000 PJM Interconnection, L.L.C.

CAE-30.

Docket#, EL00-54, 000 UNICOM Investments, Inc.

CAE-31.

Docket#, EL00-45, 000 Wisconsin Public Power, Inc. v. Wisconsin Power & Light Company and Alliant Energy, Inc.

CAE-32.

Docket#, EL00-34, 000, Exxonmobil Chemical Company and Exxonmobil Refining & Supply Company v. Entergy Gulf States, Inc.

CAE-33.

Omitted

CAE-34.

Docket#, ER99-4400, 000, Southern Operating Companies

Other#s ER99-4400, 001, Southern Operating Companies

ER99-4450, 000, Georgia Power Company

Consent Agenda—Miscellaneous

CAM-1.

Docket#, RM00-8, 000, Revision of Public Reference Room Procedures for Records Request

Consent Agenda—Gas and Oil

CAG-1.

Docket#, RP00-223, 000, Northern Natural Gas Company

CAG-2.

Omitted

CAG-3.

Docket#, RP97-288, 003, Transwestern Pipeline Company

CAG-4.

Docket#, RP00-234, 000, CNG Transmission Corporation

CAG-5.

Docket#, RP00-237, 000, Columbia Gas Transmission Corporation

CAG-6.

Docket#, RP00-238, 000, Columbia Gulf Transmission Company

CAG-7.

Docket#, RP00-233, 000, Midwestern Gas Transmission Company

CAG-8.

Docket#, RP00-226, 000, Mississippi Canyon Gas Pipeline, LLC

CAG-9.

Docket#, RP00-239, 000, Pine Needle LNG Company, LLC

CAG-10.

Omitted

CAG-11.

Omitted

CAG-12.

Docket#, RP00-229, 000, Tennessee Gas Pipeline Company

CAG-13.

Omitted

CAG-14.

Docket#, RP00-219, 000, Northwest Pipeline Corporation

CAG-15.

Docket#, RP97-431, 000, Natural Gas Pipeline Company of America

CAG-16.

Docket#, RS92-11, 027, Texas Eastern Transmission Corporation

CAG-17.

Docket#, RP99-477, 002, North American Energy Conservation, Inc. v. CNG Transmission Corporation

CAG-18.

Omitted

CAG-19.

Omitted

CAG-20.

Docket#, PR00-5, 000, Coral-Mexico Pipeline, L.L.C.

CAG-21.

Docket#, RP99-274, 004, Kern River Gas Transmission Company

CAG-22.

Docket#, MG99-27, 001, Panhandle Eastern Pipe Line Company

Other#s, MG99-28, 001, Southwest Gas Storage Company

MG99-29, 001, Trunkline Gas Company

MG99-30, 001, Trunkline LNG Company

CAG-23.

Omitted

CAG-24.

Docket#, CP00-14, 000, Buccaneer Gas Pipeline Company, L.L.C.

Other#s, CP00-15, 000, Buccaneer Gas Pipeline Company, L.L.C.

CP00-16, 000, Buccaneer Gas Pipeline Company, L.L.C.

CAG-25.

Docket#, CP00-45, 000, Eastern Shore Natural Gas Company

CAG-26.

Docket#, CP00-6, 000, Gulfstream Natural Gas System, L.L.C.

Other#s, CP00-7, 000, Gulfstream Natural Gas System, L.L.C.

CP00-8, 000, Gulfstream Natural Gas System, L.L.C.

CAG-27.

Omitted

CAG-28.

Docket#, CP96-684, 001, Interenergy Sheffield Processing Company, Bear Paw Energy, L.L.C.

CAG-29.

Omitted

CAG-30.

Docket#, RP99-471, 001, Williams Field Services Group, Inc. v. El Paso Natural Gas Company

CAG-31.

Docket#, CP97-315, 003, Independence Pipeline Company

Other#s, CP97-319, 002, ANR Pipeline Company

CP97-320, 001, Independence Pipeline Company

CP97-321, 001, Independence Pipeline Company

CP98-200, 002, National Fuel Gas Supply Corporation

CP98-540, 002, Transcontinental Gas Pipe Line Corporation

CAG-32.

Docket#, CP96-687, 002, Iroquois Gas Transmission System

Hydro Agenda

H-1.

Reserved

Electric Agenda

E-1.

Reserved

Oil and Gas Agenda

I.

Pipeline Rate Matters

PR-1.

Reserved

II.

Pipeline Certificate Matters

PC-1.

Reserved

David P. Boergers,
Secretary.

[FR Doc. 00-10204 Filed 4-19-00; 3:51 pm]

BILLING CODE 6717-01-P